DEPARTMENT OF THE INTERIOR

National Park Service

Death Valley National Park Advisory Commission

AGENCY: National Park Service, Interior.

ACTION: Meeting notice.

SUMMARY: This notice sets forth the date of the June 25, 2002 meeting of the Death Valley National Park Advisory Commission.

DATES: The public meeting will be held on June 25, 2002 from 9 a.m. to 4:30 p.m.

ADDRESSES: The meeting will be held at the Death Valley National Park Visitor Center Auditorium, Highway 190, Death Valley, California.

FOR FURTHER INFORMATION CONTACT: James T. Reynolds, Death Valley National Park, PO Box 579, Death Valley, California, 92328.

SUPPLEMENTARY INFORMATION: The meeting will be open to the public. Any member of the public may file with the Commission a written statement concerning agenda items. The statement should be addressed to the Death Valley National Park Advisory Commission, PO Box 579, Death Valley, California, 92328. Due to mis-routing of U.S. mail, the notice could not be published at least 15 days prior to the meeting date. The National Park Service regrets this error but is compelled to hold the meeting as scheduled because of the significant sacrifice re-scheduling could require of committee members who have adjusted their schedules to accommodate the meeting date. Since the meeting date has received widespread publicity in area news media and among the parties most affected, the National Park Service believes that the public interest will not be adversely affected by the less-than-15-days advance notice in the Federal Register.

Agenda: The June 25, 2002 meeting will consist of handing out the final General Management Plan for Death Valley National Park; Operational Updates on Park Activities which include the Furnace Creek Environmental Impact Statement and related water issues; the pending acquisition of Barrick Mines Inc. Administrative Site; briefing on the California Desert Park Foundation; Fee Demonstration project update; Natural History Association update; Timbisha Shoshone Tribe update; and a Citizens Open Forum where the public can make comments and ask questions on any park activity.

Dated: June 10, 2002.
Fran P. Mainella,
Director.

[FR Doc. 02-15636 Filed 6-20-02; 8:45 am]

BILLING CODE 4310-70-M